DEPARTMENT OF COMMERCE

National Oceanic and Atmospheric Administration

[I.D. 102400E]

Western Pacific Fishery Management Council; Public Meeting

AGENCY: National Marine Fisheries Service (NMFS), National Oceanic and Atmospheric Administration (NOAA), Commerce.

ACTION: Notice of public meeting.

SUMMARY: The Western Pacific Fishery Management Council’s (Council) Recreational Fisheries Data Task Force (RFDTF) will hold a meeting.

DATES: The meeting will be held November 15, 2000, from 8:30 a.m. to 5 p.m.

ADDRESSES: The meeting will be held at the Western Pacific Fishery Management Council office, 1164 Bishop St., Suite 1400, Honolulu, HI 96813.

FOR FURTHER INFORMATION CONTACT: Kitty M. Simonds, Executive Director; telephone: 808-522-8220.

SUPPLEMENTARY INFORMATION: This will be the sixth meeting of the RFDTF and will discuss the following topics: the implementation of the NMFS Marine Recreational Fisheries Statistical Survey (MRFSS), Pelagic Environmental Impact Statement & recreational fisheries, outcome of the seventh Multilateral High Level Conference for tuna management in the Central-West Pacific, the pros and cons for a marine recreational fishery license in Hawaii, recreational bag limits and minimum sizes for sale, effectiveness of bottomfish closed areas in the Main Hawaiian Islands, new Council Advisory Panels and the future of the RFDTF.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: October 25, 2000.
Richard W. Surdi,
Acting Director, Office of Sustainable Fisheries, National Marine Fisheries Service.

[FR Doc. 00-27875 Filed 10-30-00; 8:45 am]

BILLING CODE 3510-22-S